DEPARTMENT OF TRANSPORTATION

Federal Aviation Administration

14 CFR Part 97

[Docket No. 30505; Amdt. No. 3177]

Standard Instrument Approach Procedures; Miscellaneous Amendments

AGENCY: Federal Aviation Administration (FAA), DOT.

ACTION: Final rule.

SUMMARY: This amendment amends Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: This rule is effective July 21, 2006. The compliance date for each SIAP is specified in the amendatory provisions.

The incorporation by reference of certain publications listed in the regulations is approved by the Director of the Federal Register of July 21, 2006.

ADDRESSES: Availability of matter incorporated by reference in the amendment is as follows:

For Examination—

1. FAA Rules Docket, FAA Headquarters Building, 800 Independence Ave., SW., Washington, DC 20591;

2. The FAA Regional Office of the region in which affected airport is located; or

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14, Code of Federal Regulations, part 97 (14 CFR part 97) amends Standard Instrument Approach Procedures (SIAPs). The complete regulatory description of each SIAP is contained in the appropriate FAA Form 8260, as modified by the National Flight Data Center (FDC)/Permanent Notice to Airmen (P-NOTAM), which is incorporated by reference in the amendment under 5 U.S.C. 552(a), 1 CFR part 51, and § 97.20 of the Code of Federal Regulations. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR sections, with the types and effective dates of the SIAPs. This amendment also identifies the airport, its location, the procedure identification and the amendment number.

The Rule

This amendment to 14 CFR part 97 is effective upon publication of each separate SIAP as amended in the transmittal. For safety and timeliness of change considerations, this amendment incorporates only specific changes contained for each SIAP as modified by FDC/P-NOTAMs.

The SIAPs, as modified by FDE P-NOTAM, and contained in this amendment are based on the criteria contained in the U.S. Standard for Terminal Instrument Procedure (TERPS). In developing these chart changes to SIAPs, the TERPS criteria were applied to only these specific conditions existing at the affected airports. All SIAP amendments in this rule have been previously issued by the FAA in a FDC NOTAM as an emergency action of immediate flight safety relating directly to published aeronautical charts. The circumstances which created the need for all these SIAP amendments requires making them effective in less than 30 days.

Further, the SIAPs contained in this amendment are based on the criteria contained in TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on July 14, 2006.
James J. Ballough,
Director, Flight Standards Service.

Adoption of the Amendment

Accordingly, pursuant to the authority delegated to me, Title 14, Code of Federal regulations, part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * * Effective Upon Publication

FDC date | State | City | Airport | FDC No. | Subject
06/08/06 | WV | HUNTINGTON | TRI-STATE/MILTON J. FERGUSON FIELD | 6/9122 | ILS RWY 30, AMDT 4B.
06/08/06 | WV | HUNTINGTON | TRI-STATE/MILTON J. FERGUSON FIELD | 6/9123 | RADAR RWY 3, AMDT 5.
06/08/06 | WV | HUNTINGTON | TRI-STATE/MILTON J. FERGUSON FIELD | 6/9124 | ILS RWY 12, AMDT 12.
06/08/06 | CO | DENVER | DENVER INTL | 6/9237 | RNAV (GPS) RWY 25, ORIG.
06/08/06 | GA | ATLANTA | HARTSFIELD-JACKSON INTL | 6/9278 | RNAV (GPS) RWY 27R, AMDT 1.
06/08/06 | GA | ATLANTA | HARTSFIELD-JACKSON INTL | 6/9280 | RNAV (GPS) RWY 27L, AMDT 1.
06/08/06 | GA | ATLANTA | HARTSFIELD-JACKSON INTL | 6/9281 | RNAV (GPS) RWY 8R, AMDT 1.
06/08/06 | GA | ATLANTA | HARTSFIELD-JACKSON INTL | 6/9282 | RNAV (GPS) RWY 8L, AMDT 1.
06/08/06 | GA | ATLANTA | HARTSFIELD-JACKSON INTL | 6/9283 | RNAV (GPS) RWY 9R, AMDT 1.
06/08/06 | GA | ATLANTA | HARTSFIELD-JACKSON INTL | 6/9284 | RNAV (GPS) RWY 9L, AMDT 1.
06/08/06 | TX | ALICE | ALICE INTL | 6/9286 | RNAV (GPS) RWY 31 AMDT 1.
06/08/06 | TX | ALICE | ALICE INTL | 6/9287 | RNAV (GPS) RWY 13 ORIG.
06/08/06 | GA | ATLANTA | HARTSFIELD-JACKSON INTL | 6/9289 | ILS OR LOC RWY 26L, AMDT 19.
06/08/06 | GA | ATLANTA | HARTSFIELD-JACKSON INTL | 6/9290 | ILS OR LOC RWY 27L, AMDT 15.
06/08/06 | GA | ATLANTA | HARTSFIELD-JACKSON INTL | 6/9291 | ILS OR LOC RWY 27R, AMDT 4.
06/08/06 | ID | SANDPOINT | SANDPOINT | 6/9292 | LOC/DME A, AMDT 1.
06/08/06 | GA | ATLANTA | HARTSFIELD-JACKSON INTL | 6/9294 | ILS OR LOC RWY 9L, AMDT 8.
06/08/06 | GA | ATLANTA | HARTSFIELD-JACKSON INTL | 6/9295 | ILS OR LOC RWY 26R, AMDT 4.
06/08/06 | GA | ATLANTA | HARTSFIELD-JACKSON INL | 6/9296 | ILS OR LOC RWY 8R, AMDT 59.
06/08/06 | AK | KING COVE | KING COVE | 6/9310 | RNAV (GPS)-A, ORIG.
06/08/06 | FL | DESTIN-FORT WALTON BEACH | DESTIN-WALTON BEACH | 6/9322 | RNAV (GPS) RWY 14, ORIG-A.
06/29/06 | AK | KING SALMON | KING SALMON | 6/2457 | RNAV (GPS) Z RWY 29, ORIG-A.
06/29/06 | AK | KING SALMON | KING SALMON | 6/2460 | RNAV (GPS) Y RWY 29, ORIG.
06/29/06 | TX | FORT WORTH | FORT WORTH MEACHAM INTL | 6/1325 | GPS RWY 34, ORIG-C.
06/29/06 | TX | FORT WORTH | FORT WORTH MEACHAM INTL | 6/1326 | RNAV (GPS) RWY 16, ORIG.
06/29/06 | MO | FORT LEONARD WOOD | WAYNESVILLE RGNL AT FORNEY FLD | 6/1390 | VOR RWY 32, ORIG-B.
06/29/06 | MO | FORT LEONARD WOOD | WAYNESVILLE RGNL AT FORNEY FLD | 6/1391 | NDB RWY 32, ORIG-A.
06/29/06 | NY | PLATTSBURGH | PLATTSBURGH INTL | 6/1395 | RNAV (GPS) RWY 17, ORIG.
06/29/06 | FL | MIAMI | KENDALL-TAMIAMI EXECUTIVE | 6/1396 | RNAV (GPS) RWY 9R, ORIG.
06/29/06 | AK | KING SALMON | KING SALMON | 6/1397 | LOC/DME BC RWY 29, AMDT 2.
06/29/06 | AK | KING SALMON | KING SALMON | 6/1398 | ILS OR LOC RWY 11, AMDT 15.
06/29/06 | AK | KING SALMON | KING SALMON | 6/1400 | RNAV (GPS) RWY 11, ORIG-A.
06/29/06 | AK | KING SALMON | KING SALMON | 6/1402 | VOR/DME OR TACAN RWY 29, AMDT 9.
06/29/06 | FL | MIAMI | KENDALL-TAMIAMI EXECUTIVE | 6/1403 | RNAV (GPS) RWY 27L, ORIG.
06/29/06 | AK | KING SALMON | KING SALMON | 6/1405 | VOR OR TACAN RWY 11, AMDT 12.
06/29/06 | TX | ABILENE | ABILENE REGIONAL | 6/1411 | LOC BC RWY 17L, AMDT 3B.
06/29/06 | TX | ABILENE | ABILENE REGIONAL | 6/1412 | RNAV (GPS) RWY 17L, ORIG.
07/03/06 | MI | DETROIT | COLEMAN A. YOUNG MUNI | 6/1646 | ILS RWY 33, AMDT 14.
07/05/06 | AZ | SEDONA | SEDONA | 6/1805 | GPS RWY 3 ORIG.
07/05/06 | CA | ATWATER | CASTLE | 6/1808 | ILS/DME RWY 31, ORIG.
07/05/06 | CA | ATWATER | CASTLE | 6/1810 | GPS RWY 31 ORIG.
07/05/06 | CA | ATWATER | CASTLE | 6/1811 | VOR/DME RWY 13, ORIG.
07/05/06 | CA | ATWATER | CASTLE | 6/1813 | GPS RWY 13 ORIG.
07/05/06 | CA | ATWATER | CASTLE | 6/1814 | VOR/DME RWY 31, ORIG.
07/05/06 | HI | LIHUE | LIHUE | 6/1822 | RNAV (GPS) RWY 35, ORIG-B.
07/06/06 | NJ | NEWARK | NEWARK LIBERTY INTL | 6/1966 | RNAV (RNP) Y RWY 22L, ORIG.
07/06/06 | AL | HALEYVILLE | POSEY FIELD | 6/1977 | VOR/DME OR GPS RWY 18, AMDT 4.
07/07/06 | ID | HAILEY | FRIEDMAN MEMORIAL | 6/2036 | RNAV (RNP) Y RWY 31, ORIG.
07/07/06 | OR | EUGENE | MAHLON SWEET FIELD | 6/2037 | GPS RWY 16, ORIG-B.
07/07/06 | AS | PAGO PAGO | PAGO PAGO INTL | 6/2066 | VOR-D, AMDT 5.
07/07/06 | AS | PAGO PAGO | PAGO PAGO INTL | 6/2067 | ILS/DME RWY 5, AMDT 13.
07/07/06 | AS | PAGO PAGO | PAGO PAGO INTL | 6/2068 | VOR/DME OR TACAN-B, AMDT 5.
07/10/06 | IA | CLARINDA | SCHENCK FIELD | 6/2244 | GPS RWY 20, ORIG-A.
07/10/06 | IA | CLARINDA | SCHENCK FIELD | 6/2246 | GPS RWY 2, ORIG.
07/11/06 | PA | READING | READING REGIONAL/CARL A SPAATZ FIELD | 6/2297 | ILS RWY 36, AMDT 29.
07/11/06 | IL | CHICAGO | CHICAGO MIDWAY | 6/2299 | ILS OR LOC/DME RWY 13C.
07/11/06 | AR | BRINKLEY | FRANK FEDERER MEMORIAL | 6/2309 | NDB A, AMDT 2.
07/11/06 | WI | ASHLAND | JOHN F. KENNEDY | 6/2320 | NDB RWY 2, AMDT 9.
07/11/06 | GA | MACON | MIDDLE GEORGIA REGIONAL | 6/2323 | RNAV (GPS) RWY 13, ORIG.
07/11/06 | AK | UNALAKLEET | UNALAKLEET | 6/2350 | LOC RWY 14, AMDT 2.
07/11/06 | WA | PORT ANGELES | WILLIAM R FAIRCHILD INTL | 6/2357 | ILS 1 RWY 8, AMDT 1C.
07/12/06 | MH | MAJURO ATOLL | MARSHALL ISLANDS INTL | 6/2437 | RNAV (GPS) RWY 25, ORIG.
07/12/06 | MH | MAJURO ATOLL | MARSHALL ISLANDS INTL | 6/2438 | RNAV (GPS) RWY 7, ORIG.
07/12/06 | MH | MAJURO ATOLL | MARSHALL ISLANDS INTL | 6/2439 | NDB RWY 25, ORIG.
07/12/06 | MH | MAJURO ATOLL | MARSHALL ISLANDS INTL | 6/2440 | NDB RWY 7, ORIG.
07/12/06 | HI | HILO | HILO INTL | 6/2453 | VOR/DME OR TACAN RWY 26, AMDT 5A.

[FR Doc. 06-6376 Filed 7-20-06; 8:45 am]

BILLING CODE 4910-13-M